DEPARTMENT OF EDUCATION

Submission for OMB Review; Comment Request

AGENCY: Department of Education.

ACTION: Correction notice.

SUMMARY: On March 3, 2004, the Department of Education published a 30-day public comment period notice in the Federal Register (Page 10005, Column 3) for the information collection, “U.S. Department of Education Budget Information—Non-Construction Programs Form and Grant Performance Report Form. The notice incorrectly referred to the Institute of Education Sciences. The correct office is the office of the Chief Financial Officer.

FOR FURTHER INFORMATION CONTACT: Sheila Carey at her e-mail address Sheila.Carey@ed.gov.

Dated: March 3, 2004.
Angela C. Arrington,
Leader, Regulatory Information Management Group, Office of the Chief Information Officer.

[FR Doc. 04-5267 Filed 3-8-04; 8:45 am]

BILLING CODE 4000-01-M